DEPARTMENT OF ENERGY

Federal Energy Regulatory Commission

[Project Nos. 2146-000]

Alabama Power Company; Notice of Reinstatement of Authorization for Continued Project Operation

On July 28, 2005, Alabama Power Company, licensee for the Coosa River Hydroelectric Project No. 2146 (Coosa River Project), Jordan Hydroelectric Project No. 618 (Jordan Project), and Mitchell Hydroelectric Project No. 82 (Mitchell Project) filed an application for a new license to continue operation and maintenance of all three projects as one project, the Coosa River Project, pursuant to the Federal Power Act (FPA) and the Commission's regulations. The projects are located on the Coosa River in the states of Alabama and Georgia.

On August 8, 2007, the Commission issued separate Notices of Authorization for Continued Project Operation (Notice of Authorization) for each project. Each Notice of Authorization stated that if the project is subject to section 15 of the FPA, notice is hereby given that an annual license for the project is issued to Alabama Power Company for a period effective August 1, 2007 through July 31, 2008, or until the issuance of a new license for the project or other disposition under the FPA, whichever comes first. The Notice of Authorization further stated that if issuance of a new license (or other disposition) does not take place on or before July 31, 2008, notice is hereby given that, pursuant to 18 CFR 16.18(c), an annual license under section 15(a)(1) of the FPA is renewed automatically without further order or notice by the Commission, unless the Commission orders otherwise. The Notice of Authorization then stated that if the project is not subject to section 15 of the FPA, notice is hereby given that Alabama Power Company is authorized to continue operation of the project until such time as the Commission acts on its application for a new license.

On June 20, 2013, the Commission issued a new license combining the three projects as one project, the Coosa River Project.

On September 7, 2018, the U.S. Court of Appeals for the District of Columbia Circuit issued a formal mandate vacating and remanding the new license to the Commission for further proceedings. Therefore, as of September 7, 2018, the Court's mandate automatically reinstates the three August 8, 2007 Notices of Authorization and returns the July 28, 2005 application to pending status.

Dated: September 10, 2018.
Kimberly D. Bose,
Secretary.

[FR Doc. 2018-20081 Filed 9-14-18; 8:45 am]

BILLING CODE 6717-01-P